DEPARTMENT OF DEFENSE

[Docket ID: DoD-2014-OS-0055]

Privacy Act of 1974; System of Records

AGENCY: Office of the Secretary of Defense, DoD.

ACTION: Notice to delete a System of Records Notice.

SUMMARY: The Office of the Secretary of Defense is deleting a system of records notice in its existing inventory of record systems subject to the Privacy Act of 1974, as amended. The notice is DGC 05, Administrative Files on Active Psychiatric Consultants to Department of Defense (August 27, 1993, 58 FR 45320).

DATES: Comments will be accepted on or before May 27, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Cindy Allard at (571) 372-0461.

SUPPLEMENTARY INFORMATION: The Office of the Secretary of Defense systems of records notices subject to the Privacy Act of 1974 (5 U.S.C. 552a), as amended, have been published in the Federal Register and are available from the address in FOR FURTHER INFORMATION CONTACT or at the Defense Privacy and Civil Liberties Web site at http://dpclo.defense.gov/.

The proposed deletion is not within the purview of subsection (r) of the Privacy Act of 1974 (5 U.S.C. 552a), as amended, which requires the submission of a new or altered system report.

Dated: April 22, 2014.
Aaron Siegel,
Alternate OSD Federal Register Liaison Officer, Department of Defense.

Deletion:

DGC 05

Administrative Files on Active Psychiatric Consultants to Department of Defense (August 27, 1993, 58 FR 45320).

Reason: Based on a recent review of DGC 05, Administrative Files on Active Psychiatric Consultants to Department of Defense, it was determined that this system of records is no longer needed. The retention and disposal period is past and all records have been destroyed, therefore the system can be deleted.

[FR Doc. 2014-09411 Filed 4-24-14; 8:45 am]

BILLING CODE 5001-06-P